DEPARTMENT OF TRANSPORTATION

Surface Transportation Board

[STB Docket No. AB-6 (Sub-No. 430X); STB Docket No. AB-1040X]

BNSF Railway Company—Abandonment Exemption—in Oklahoma County, OK; Stillwater Central Railroad, Inc.—Discontinuance of Service Exemption—in Oklahoma County, OK

AGENCY: Surface Transportation Board, DOT.

ACTION: Notice of exemption.

SUMMARY: Under 49 U.S.C. 10502(a), on its own motion, the Board is granting an individual exemption from the prior approval requirements of 49 U.S.C. 10903 for Stillwater Central Railroad, Inc. (SLWC) to discontinue service over approximately 0.95 miles of railroad in Oklahoma City, Oklahoma County, OK. A petition to reject the notice of exemption filed by SLWC is granted. The Board is affirming BNSF Railway Company's (BNSF) use of the class exemption to abandon 2.95 miles of the line and denying a petition to reject the notice of exemption filed by BNSF.

DATES: The SLWC exemption will be effective on February 25, 2007. Petitions to stay must be filed by February 12, 2007. Petitions to reopen must be filed by February 20, 2007.

ADDRESSES: An original and 10 copies of all pleadings referring to STB Docket No. AB-6 (Sub-No. 430X) and STB Docket No. AB-1040X must be filed with the Surface Transportation Board, 1925 K Street, NW., Washington, DC 20423-0001. In addition, one copy of all pleadings must be served on petitioners' representative: Sidney L. Strickland, Jr., 3050 K Street, NW., Suite 101, Washington, DC 20007.

FOR FURTHER INFORMATION CONTACT: Joseph H. Dettmar, (202) 565-1609. [Assistance for the hearing impaired is available through the Federal Information Relay Service (FIRS) at 1-800-877-8339.]

SUPPLEMENTARY INFORMATION: On September 23, 2005, BNSF and SLWC filed a joint notice of exemption under 49 CFR 1152 Subpart F—Exempt Abandonments and Discontinuances of Service for BNSF to abandon and SLWC to discontinue service over the aforementioned rail line. Notice of the exemptions was served and published in the Federal Register on October 13, 2005 (70 FR 59802), and the exemptions were scheduled to take effect on November 12, 2005. On November 9, 2005, Bio-Energy Wellness Center and North American Transportation Institute filed a petition to reject the notices.

In a decision being served simultaneously with this notice, the Board is concluding that SLWC does not qualify for the class exemption under which it filed its notice. However, on its own motion, the Board is granting SLWC an individual exemption and is publishing this notice to inform interested parties of that action.

Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: January 22, 2007.
By the Board, Chairman Nottingham, Vice Chairman Buttrey, and Commissioner Mulvey.
Vernon A. Williams,
Secretary.

[FR Doc. E7-1253 Filed 1-25-07; 8:45 am]

BILLING CODE 4915-01-P